FEDERAL COMMUNICATIONS COMMISSION

Notice of Public Information Collection(s) Being Submitted to OMB for Review and Approval

Dated: January 20, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 3, 2000. If you anticipate that you will be submitting comments, but find it difficult to do so within the period of time allowed by this notice, you should advise the contact listed below as soon as possible.

ADDRESSES: Direct all comments to Les Smith, Federal Communications Commission, Room 1-A804, 445 12th Street, S.W., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0035.

Title: Application for Renewal of Auxiliary Broadcast License (Short Form).

Form Number: FCC 313 R.

Type of Review: Revision of a currently approved collection.

Respondents: Business or other for-profit entities.

Number of Respondents: 50.

Estimated Time Per Response: 0.5 hours.

Frequency of Response: On occasion reporting requirement.

Total Annual Burden: 25 hours.

Total Annual Costs: $2,250.

Needs and Uses: FCC Form 313 R is used by licensees of remote pickup and low power stations that are not broadcast licensees (e.g., cable operators, network entities, international broadcast services, motion picture producers, and television producers) to renew their auxiliary broadcast license. Statutory authority for this information collection is contained in Section 307 of the Communications Act; it is also required by 47 CFR 73.3500 and 73.3539. The Commission intends to revise the application to include a place for the applicant to provide a fax number and to delete payment information and Taxpayer ID Number, since any feeable application must also file FCC Form 159 (Fee Remittance Advice) which provides this information too.

OMB Control Number: 3060-0107.

Title: Private Radio Application for Renewal, Reinstatement, and/or Notification of Change to License Information.

Form Number: FCC 405 A.

Type of Review: Revision of currently approved collection.

Respondents: Businesses or other for-profit entities; Individuals or households; Not-for-profit institutions; and State, Local, or Tribal Government.

Number of Respondents: 1,500.

Estimated Time Per Response: 20 minutes.

Frequency of Response: On occasion reporting requirement.

Total Annual Burden: 495 hours.

Total Annual Cost: $80,000.

Needs and Uses: FCC rules require that radio station licensees renew their PMRS (Private Mobile Radio Service) radio station authorization every five years or their CMRS (Commercial Mobil Radio Service) radio station authorization every ten years. Data are used to update the existing database and make efficient use of the frequency spectrum. Data are also used by the Compliance Bureau staff in conjunction with field engineers for enforcement and interference resolutions. The data collected are required by the Communications Act of 1934, as amended, international treaties, and FCC Rules, 47 CFR 1.926, 90.119, 90.135, and 90.157. FCC Form 405 A has been revised to delete the payment information. This information is already required on FCC Form 159 (Fee Remittance Advice), and applicants must file both forms when fees are due. The collection is also being revised to delete reference to General Mobile Radio Service use of the form. This radio service has been converted to ULS and will no longer use FCC Form 405 A.

OMB Control Number: 3060-0127.

Title: Assignment of Authorization.

Form Number: FCC 1046.

Type of Review: Revision of currently approved collection.

Respondents: Businesses or other for-profit entities; Individuals or households; Not-for-profit Institutions; and State, Local, or Tribal Governments.

Number of Respondents: 3,000.

Estimated Time Per Response: 5 minutes.

Frequency of Response: On occasion reporting requirement.

Total Annual Burden: 249 hours.

Total Annual Cost: None.

Needs and Uses: FCC Form 1046 is required by the Communications Act, international treaties, and FCC Rules, 47 CFR 1.922, 1.924, 80.19, 87.21, and 90.119. To assign authorization of radio station to another entity, the assignor must, in writing, assign all rights, title, and interest of the authorization to the other entity. The Commission uses the data to determine if assignment of authorization submitted with the application will meet the rule requirements for issuance of a station authorization. Form FCC 1046 is being revised to delete the reference to Microwave Radio Services use of the form, reducing the number of respondents from 6,000 to 3,000. Microwave Services have been converted to ULS and will use FCC Form 603 for assignment of authorization.

Federal Communications Commission.
Magalie Roman Salas,
Secretary.

[FR Doc. 00-2142 Filed 2-1-00; 8:45 am]

BILLING CODE 6712-01-U